DEPARTMENT OF LABOR

Office of the Secretary; Submission for OMB Review; Comment Request

August 9, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable support documentation, may be obtained by calling the Department of Labor. To obtain documentation for BLS, ETA, PWBA, and OASAM contract Karin Kurz ({202} 219-5096 ext. 159 or by E-mail to Kurz-Karin@dol.gov). To obtain documentation for ESA, MSHA, OSHA, and VETS contact Darrin King ({202} 219-5096 ext. 151 or by E-mail to King-Darrin@dol.gov).

Comments should be sent to Office of Information and Regulatory Affairs, Attn: OMB Desk Officer for BLS, DM ESA, ETA, MSHA, OSHA, PWBA, or VETS, Office of Management and Budget, Room 10235, Washington, DC ({202} 395-7316), on or before September 14, 2000.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New Collection.

Agency: Employment and Training Administration.

Title: MIS Requirements for Youth Opportunity Grants.

OMB Number: 1205-0New.

Affected Public: Not-for-profit institutions; State, Local, or Tribal Government.

Form | Total respondents | Frequency | Total reponses | Average time per response (in hrs) | Estimated total burden hours
ETA 9086 | 40 | Monthly | 480 | 104 | 49,920
ETA 9087 | 40 | Quarterly | 160 | 48 | 7680
Totals |  |  | 640 |  | 57,600

Total annualized capital/startup costs: $0.

Total annual costs (operating/maintaining systems or purchasing services): 0.

Description: Youth Opportunity Grants are expected to serve about 45,000 youth each year in 40 high-poverty communities. The Management Information System (MIS) requirements for the grantees will include collecting demographic information on enrollees, documenting services received by enrollees, and following up enrollees as prescribed by law for at least two years after placement. Grantees will be required to provide monthly reports to the Department of Labor on participant characteristics, services being provided, and placement rates, and quarterly reports on employment and earnings at follow-up.

Ira L. Mills,
Departmental Clearance Officer.

[FR Doc. 00-20677 Filed 8-14-00; 8:45 am]

BILLING CODE 4510-30-M